DEPARTMENT OF DEFENSE

Department of the Navy

[Docket ID: USN-2013-0023]

Privacy Act of 1974; System of Records

AGENCY: Department of the Navy, DoD.

ACTION: Notice to alter a System of Records.

SUMMARY: The Department of the Navy proposes to alter a system of records in its inventory of record systems subject to the Privacy Act of 1974 (5 U.S.C. 552a), as amended.

DATES: This proposed action will be effective on July 25, 2013 unless comments are received which result in a contrary determination. Comments will be accepted on or before July 24, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on June 3, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 19, 2013.
Aaron Siegel,
Alternate OSD Federal Register Liaison Officer, Department of Defense.

N05354-1

System name:

Equal Opportunity Management Information System (May 9, 2003, 68 FR 24959).

Changes:

* * * * *

System name:

Delete entry and replace with “Military Equal Opportunity Network (MEONet).”

System location:

Delete entry and replace with “Human Resources Technologies (HRTec), 5400 Shawnee Road, Suite 201, Alexandria, VA 22312-2300.”

Categories of individuals covered by the system:

Delete entry and replace with “Military personnel who are involved in formal or informal complaints or investigations involving aspects of equal opportunity or hazing and/or who have initiated or were the subject of correspondence concerning aspects of equal opportunity or hazing.”

Categories of records in the system:

Delete entry and replace with “Correspondence and records concerning incident data endorsements and recommendations, formal and informal complaints and investigations concerning aspects of equal opportunity or hazing. Complainant's name, race, ethnicity, gender, rank/rate, age, Unit Identification Code (UIC), phone number, type of complaint filed, and case number are documented.”

Authority for maintenance of the system:

Delete entry and replace with “5 U.S.C. 301, Departmental Regulations; SECNAVINST 5300.26D, Department of the Navy (DON) Policy on Sexual Harassment; SECNAVINST 5350.16A, Equal Opportunity (EO) Within the Department of the Navy (DON); and OPNAVINST 5354.1F, Navy Equal Opportunity Policy.”

Purpose(s):

Delete entry and replace with “To provide a centralized database for hazing and equal opportunity formal and informal complaints, and to assist in equal opportunity measures, such as complaints, investigations, and correspondence.”

* * * * *

Storage:

Delete entry and replace with “Paper and/or electronic storage media.”

Retrievability:

Delete entry and replace with “The type of Equal Opportunity or hazing complaint filed, by case number or complainant last name.”

* * * * *

Retention and disposal:

Delete entry and replace with “Records maintained for three years after retirement and then destroyed.”

System manager(s) and address:

Delete entry and replace with “Chief of Naval Personnel OPNAV N134, 701 South Courthouse Road, Arlington, VA 22204-2472.”

Notification procedure:

Delete entry and replace with “Individuals seeking to determine whether this system of records contains information about themselves should address written inquiries to the local activity where assigned. Official mailing addresses are available in the Standard Navy Distribution List (SNDL) published as an appendix to the Navy's compilation of system of records notices.

The letter should contain full name and signature of the requester. The system manager may require an original signature or a notarized signature as a means of proving the identity of the individual requesting access to the records.

The individual may visit their local activity Equal Opportunity Advisor or Command Managed Equal Opportunity Program Manager to review files entered at the command level. Records can only be accessed by the command that entered a specific case or that command's chain of command. Records are only searchable by the name of the complainant. Proof of identification will consist of Military Identification Card for persons having such cards, or other picture-bearing identification.”

Record access procedures:

Delete entry and replace with “Individuals seeking access to records about themselves contained in this system of records should address a written request to the local activity where assigned. Official mailing addresses are available in the Standard Navy Distribution List (SNDL) published as an appendix to the Navy's compilation of systems of records notices.

The letter should contain full name and signature of the requester. The system manager may require an original signature or a notarized signature as a means of proving the identity of the individual requesting access to the records.

The individual may visit their local activity Equal Opportunity Advisor or Command Managed Equal Opportunity Program Manager to review files entered at the command level. Records can only be accessed by the command that entered a specific case or that command's chain of command. Proof of identification will consist of Military Identification Card for persons having such cards, or other picture-bearing identification.”

* * * * *

[FR Doc. 2013-14999 Filed 6-21-13; 8:45 am]

BILLING CODE 5001-06-P